ENVIRONMENTAL PROTECTION AGENCY

[FRL 10927-01-OW]

South Florida Clean Coastal Waters Act—Interim Assessment; Notice of Public Meeting

AGENCY: Environmental Protection Agency (EPA).

ACTION: Notice of public meeting.

SUMMARY: The Environmental Protection Agency (EPA), in partnership with the National Oceanic and Atmospheric Administration (NOAA), announces a series of public meetings of the Interagency Working Group on the Harmful Algal Bloom and Hypoxia Research and Control Act (IWG-HABHRCA). The purpose of these meetings is for the IWG-HABHRCA to provide updates on the assessment of harmful algal blooms (HABs) and hypoxia in South Florida, including a presentation of progress to-date as well as next steps, as is required by the South Florida Clean Coastal Waters Act of 2021. The meetings will be open to the public and conducted in a hybrid format with both in-person and virtual attendance options. Please see SUPPLEMENTARY INFORMATION for further details.

DATES: Public meetings will be held between June 26-June 29, 2023, at the following locations in South Florida:

1. Fort Pierce—June 26, 2023 (9:00 a.m.-12:00 p.m.)

2. Belle Glade—June 28, 2023 (9:00 a.m.-12:00 p.m.)

3. Fort Myers—June 29, 2023 (1:00 p.m.-4:00 p.m.)

Exact locations will be provided to those that register. More information on how to register can be found in the SUPPLEMENTARY INFORMATION section.

FOR FURTHER INFORMATION CONTACT: Becky Allenbach, South Florida Program, Water Division, U.S. Environmental Protection Agency—Region 4, telephone number: 404-562-9687, email address: allenbach.becky@epa.gov.

SUPPLEMENTARY INFORMATION:

I. Background

In South Florida, HABs and hypoxia—the overgrowth of algae/cyanobacteria and often related severe oxygen depletion—are observed in lakes, rivers, estuaries, and coastal areas. These HABs proliferate when environmental conditions (e.g., winds, temperatures, currents, excess nutrients) are favorable, and can result in significant impacts to human health and the environment as well as local economies.

Coordinated federal efforts to address HABs and hypoxia began with the passage of the Harmful Algal Bloom and Hypoxia Research and Control Act (HABHRCA) in 1998. Pub. L. 105-383, 112 Stat. 3447. HABHRCA established an interagency working group (IWG), which now consists of over twenty member agencies, co-chaired by NOAA and EPA. 33 U.S.C. 4001(a).

The South Florida Clean Coastal Waters Act of 2021 requires the IWG-HABHRCA to conduct a regional assessment of South Florida. 33 U.S.C. 4004a(b). The assessment needs to address the status of, and gaps within, current HAB and hypoxia research, monitoring, management, prevention, response, and control activities. 33 U.S.C. 4004a(b)(3). In addition, the IWG-HABHRCA needs to develop and submit to Congress a plan, based on the assessment, for reducing, mitigating, and controlling HABs and hypoxia in the South Florida region. 33 U.S.C. 4004a(c).

The first step in this process is to conduct an interim assessment that will represent a synthesis of the state of knowledge of HABs and hypoxia in South Florida. This interim assessment will serve to guide the full integrated assessment and plan. Currently, the IWG-HABHRCA is seeking feedback on progress to-date to ensure that the interim assessment is accurate and inclusive of ongoing efforts by State, local, and tribal governments as well as non-governmental, academic groups, and private industry.

II. Purpose of the Public Meetings

EPA and NOAA, along with other members of the IWG-HABHRCA, will hold three public meetings in the South Florida region during the week of June 26, 2023. The purpose of these public meetings is for the IWG-HABHRCA to update the public on the assessment of HABs and hypoxia in South Florida, including a presentation of progress to-date and next steps. Specifically, the IWG-HABHRCA will at these public meetings:

(1) Present an overview of the assessment process that describes project scope, methods, and types of information requested;

(2) Present the assessment outline and discuss information gathered to-date and highlight gaps; and

(3) Receive feedback from attendees.

III. How can I participate in these public meetings?

The meetings will be open to the public and conducted with both in-person and virtual attendance options. Registration information, meeting materials, and opportunities to provide public input can be found at: https://coastalscience.noaa.gov/science-areas/habs/habhrca/clean-coastal-waters-act.

Registration for the Meeting: Registration is required. Interested persons who wish to attend either in-person or virtually must register by June 9, 2023.

Availability of Meeting Materials: Meeting materials, including the meeting agenda and briefing materials, will be available 15 days before the meeting date.

Procedures for Providing Public Input: Registered attendees may provide comments verbally and in writing during and up to 30 days after the public meeting. Written comments are encouraged. Oral statements may also be delivered in-person but will be limited to three minutes in length and may not be possible if the number of commenters exceeds the allotted time on the agenda for verbal comments.

Radhika Fox,
Assistant Administrator.

[FR Doc. 2023-10671 Filed 5-18-23; 8:45 am]

BILLING CODE 6560-50-P